DEPARTMENT OF STATE

[Public Notice: 12594]

Waiver of Missile Proliferation Sanctions

ACTION: Notice of determination.

SUMMARY: A determination has been made pursuant to the Arms Export Control Act and Export Administration Act.

FOR FURTHER INFORMATION CONTACT: Pam Durham, Office of Missile, Biological, and Chemical Nonproliferation, Bureau of International Security and Nonproliferation, Department of State (202-647-4930). On import ban issues, Lauren Sun, Assistant Director for Regulatory Affairs, Department of the Treasury (202-622-4855). On U.S. Government procurement ban issues, Eric Moore, Office of the Procurement Executive, Department of State (703-875-4079), email: isn-mbc-sanctions@state.gov.

SUPPLEMENTARY INFORMATION: Consistent with section 654(c) of the Foreign Assistance Act of 1961, as amended, notice is hereby given that the Secretary of State has made a determination pursuant to section 73 of the Arms Export Control Act (22 U.S.C. 2797b) and section 11B(b) of the Export Administration Act of 1979 (50 U.S.C. app. 2410b(b)), as carried out under Executive Order 13222 of August 17, 2001, and has concluded that publication of the determination would be harmful to the national security of the United States.

Ann K. Ganzer,
Acting Assistant Secretary, International Security and Nonproliferation, Department of State.

[FR Doc. 2024-27492 Filed 11-22-24; 8:45 am]

BILLING CODE 4710-27-P